DEPARTMENT OF THE INTERIOR

National Park Service

Environmental Impact Statement for Fire Management Plan, Yosemite National Park, Counties of Madera, Mariposa and Tuolumne, California; Notice of Intent

SUMMARY: Notice is hereby given, in accord with provisions of the National Environmental Policy Act (42 U.S.C. 4321 et seq.), that public scoping has been initiated for a conservation planning and environmental impact analysis effort intended to update the Fire Management Plan (FMP) for Yosemite National Park. The purpose of the scoping process is to elicit early public comment regarding current issues and concerns, the suitable range of alternatives and appropriate mitigating measures, and the nature and extent of potential environmental impacts to be addressed in the draft Environmental Impact Statement (EIS).

Background

Yosemite National Park is a unit of the National Park System. Research has shown that fire is a significant natural process across a large portion of the 760,918 acres within the authorized boundaries of the park. Following several decades of total fire suppression, a fire management program was begun in 1970 and has continued to the present time. Four forms of wildland fire management have been used to achieve natural and cultural resource management and hazard fuel reduction goals: aggressive suppression of unwanted wildfires; wildland fire use for resource benefits (formerly called Prescribed Natural Fire); prescribed burning; and mechanical fuel reduction.

The last revision of the FMP was based upon the completion of an Environmental Assessment and culminated in a Finding Of No Significant Impact, dated May 2, 1990. However, since that time a broad range of new issues, improved information and technology, and unforeseeable limitations have emerged which have the potential to affect the future direction of the fire management program within the park. Some of these issues include but are not limited to: a continued decline in ecosystem health due to fire suppression; increased hazards, risks and costs associated with fire suppression; increased interest in mechanical manipulation, especially in the wildland urban interface areas; and more stringent air quality regulations.

Comment Process

As noted, the National Park Service will undertake an environmental impact analysis effort to identify issues and alternatives for fire management on land administered by Yosemite National Park. The subject-scoping phase will build upon preliminary outreach made for public comments on fire management planning conducted in April 1999. The park seeks to elicit a wide range of comments from organizations, individuals, agencies, Tribes, and other entities to fully inform the preparation of the draft EIS. The scoping period for the FMP EIS will conclude 30 calendar days after the date of publication of this Notice of Intent in the Federal Register. As soon as this date has been determined, a notice will be posted on the park's website at www.nps.gov.yose/planning.

During the scoping period a public meeting will held to present information developed to date, to answer questions about the plan and planning process, and to solicit and accept comments from the public. This meeting will be held March 29 in Yosemite National Park at the Yosemite Valley Visitor Center (from 2 pm to 4 pm). All interested individuals, organizations, and agencies are invited to attend this meeting, or provide written comments or suggestions during the scoping period. Please submit written comments to: Superintendent, Yosemite National Park, P.O. Box 577, Yosemite NP, CA 95389 (Attn: Fire Management Plan). Electronic comments may be transmitted to yose_planning@nps.gov (in the subject line type: Fire Management Plan Scoping).

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

The official responsible for a final decision regarding the Fire Management Plan is the Regional Director, Pacific West Region, National Park Service. The official responsible for implementation is the Superintendent, Yosemite National Park. The draft EIS and fire management plan are expected to be available for public review and comment in the summer of 2001. At this time it is anticipated that the final EIS and plan are to be completed during the fall-winter 2001, or winter 2002. Distribution of the draft and final EIS's will be duly noticed in the Federal Register, as well as in local and regional press media.

Dated: February 26, 2001.
John J. Reynolds,
Regional Director, Pacific West Region.

[FR Doc. 01-6853 Filed 3-19-01; 8:45 am]

BILLING CODE 4310-70-P